DEPARTMENT OF LABOR

Employment and Training Administration

[TA-W-56,649]

Seneca Foods Corp., Dayton, WA; Notice of Termination of Investigation

Pursuant to section 221 of the Trade Act of 1974, as amended, an investigation was initiated on February 28, 2005, in response to a worker petition filed on behalf of workers at Seneca Foods Corp., Dayton, Washington.

The petitioner has requested that the petition be withdrawn. Consequently, the investigation has been terminated.

Signed in Washington, DC, this 9th day of March, 2005.
Linda G. Poole,
Certifying Officer, Division of Trade Adjustment Assistance.

[FR Doc. E5-1353 Filed 3-25-05; 8:45 am]

BILLING CODE 4510-30-P